ENVIRONMENTAL PROTECTION AGENCY

40 CFR Part 52

[EPA-R10-OAR-2020-0650; FRL-10022-48-Region 10]

Air Plan Approval; Washington; Spokane Regional Clean Air Agency

AGENCY: Environmental Protection Agency (EPA).

ACTION: Final rule.

SUMMARY: The Environmental Protection Agency (EPA) is approving a revision to the Washington State Implementation Plan (SIP) that was submitted by the Department of Ecology (Ecology) in coordination with the Spokane Regional Clean Air Agency (SRCAA). This revision updates the SIP with local SRCAA regulations that apply in lieu of, or in supplement to, Ecology's statewide general air quality regulations for SRCAA's jurisdiction. We are also approving SRCAA's adoption by reference of certain Ecology general air quality regulations, which do not have local agency replacement corollaries, to apply in SRCAA's jurisdiction.

DATES: This final rule is effective June 9, 2021.

ADDRESSES: The EPA has established a docket for this action under Docket ID No. EPA-R10-OAR-2020-0650. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Jeff Hunt, EPA Region 10, 1200 Sixth Avenue—Suite 155, Seattle, WA 98101, at (206) 553-0256, or hunt.jeff@epa.gov.

SUPPLEMENTARY INFORMATION: Throughout this document, wherever “we,” “us,” or “our” is used, it means the EPA.

I. Background

On February 24, 2021, we proposed to approve an update to the SRCAA regulations in the SIP, remove obsolete regulations, and approve a subset of Ecology's general air quality regulations adopted by reference to apply in SRCAA's jurisdiction (86 FR 11204). The reasons for our proposed approval were stated in the proposed rulemaking and will not be re-stated here. The public comment period for our proposed action ended on March 26, 2021. We received no comments. Therefore, we are finalizing our action as proposed.

II. Final Action

A. Regulations Approved and Incorporated by Reference Into the SIP

The EPA is approving and incorporating by reference into the Washington SIP at 40 CFR 52.2470(c)—Table 9—Additional Regulations Approved for the Spokane Regional Clean Air Agency (SRCAA) Jurisdiction, the following SRCAA regulatory sections effective September 1, 2020:

• 1.01, 1.02, 1.03, 1.04, 1.05, 2.08, 2.09, 2.13, 2.14, 4.03, 4.04, 4.05, 5.02, 5.03, 5.04, 5.05, 5.06, 5.07, 5.08, 5.09, 5.10, 5.11, 5.12, 5.13, 5.14, 5.15, 6.04, 6.05, 6.07, 6.14, and 6.15.

The EPA is also approving and incorporating by reference the following Chapter 173-400 Washington Administrative Code (WAC) sections adopted by reference in Regulation I, subsection 2.14(A)(1) that SRCAA and Ecology submitted to apply within SRCAA's jurisdiction (effective date):

• 173-400-020 (12/29/2012), 173-400-030 (9/16/2018), 173-400-040 (9/16/2018), 173-400-050 (9/16/2018), 173-400-060 (11/25/2018), 173-400-091 (4/1/2011), 173-400-105 (11/25/2018), 173-400-112 (12/29/2012), 173-400-113 (12/29/2012), 173-400-117 (12/29/2012), 173-400-118 (12/29/2012), 173-400-131 (4/1/2011), 173-400-136 (12/29/2012), 173-400-151 (2/10/2005), 173-400-175 (2/10/2005), 173-400-200 (2/10/2005), 173-400-560 (12/29/2012), 173-400-800 (4/1/2011), 173-400-810 (7/1/2016), 173-400-820 (12/29/2012), 173-400-830 (7/1/2016), 173-400-840 (7/1/2016), 173-400-850 (7/1/2016), and 173-400-860 (4/1/2011).

Please see the amendatory text for more detailed information about the provisions submitted and approved in this action, including local agency corollaries which replace certain Chapter 173-400 WAC provisions and exclusions to our approval.

B. Approved but Not Incorporated by Reference Regulations

In addition to the regulations approved and incorporated by reference described in section II.A. of this preamble, the EPA reviews and approves state and local clean air agency submissions to ensure they provide adequate enforcement authority and other general authority to implement and enforce the SIP. However, regulations describing such agency enforcement and other general authority are generally not incorporated by reference so as to avoid potential conflict with the EPA's independent authorities. Therefore, we are approving the following updates to SRCAA's general provisions for inclusion in 40 CFR 52.2470(e), Table 1—Approved but Not Incorporated by Reference Regulations: 2.01, 2.02, 2.03, 2.04, 2.05, 2.06, 2.10, 2.11, and 2.12. We also note that SRCAA adopts by reference WAC 173-400-220, 173-400-230, 173-400-240, 173-400-250, and 173-400-260 to apply within its jurisdiction in the approved but not incorporated by reference section of the SIP. Please see the amendatory text for more detailed information about the provisions submitted and approved in this action, including local agency corollaries which replace certain Chapter 173-400 WAC provisions and exclusions to our approval.

C. Regulations to Remove From the SIP

As discussed in the proposal for this action, we are removing from the SIP for SRCAA's jurisdiction any formerly approved Chapter 173-400 WAC provisions which are replaced by local agency corollaries. We are also removing WAC 173-400-100 Registration from the SIP for SRCAA's jurisdiction because it is not a required SIP element. Lastly, we are removing the outdated and subsequently repealed Regulation II, section 4.01 because these requirements were replaced by SRCAA's adoption by reference of WAC 173-400-050 and WAC 173-400-060.

D. Scope of Proposed Action

This revision to the SIP applies specifically to the SRCAA jurisdiction incorporated into the SIP at 40 CFR 52.2470(c), Table 9. As discussed in our proposal, local air agency jurisdiction in Washington is generally defined on a geographic basis; however, there are exceptions. By statute, SRCAA does not have authority for sources under the jurisdiction of the Energy Facilities Site Evaluation Council (EFSEC). See Revised Code of Washington Chapter 80.50. Under the applicability provisions of WAC 173-405-012, 173-410-012, and 173-415-012, SRCAA also does not have jurisdiction for kraft pulp mills, sulfite pulping mills, and primary aluminum plants. For these sources, Ecology retains statewide, direct jurisdiction. Ecology and EFSEC also retain statewide, direct jurisdiction for issuing Prevention of Significant Deterioration (PSD) permits. Therefore, the EPA is not approving into 40 CFR 52.2470(c), Table 9 those provisions of Chapter 173-400 WAC related to the PSD program. Specifically, these provisions are WAC 173-400-116 and WAC 173-400-700 through 173-400-750, which the EPA has already approved as applying state-wide under 40 CFR 52.2470(c), Tables 2 and 3.

Also, as described in our proposal for this action, jurisdiction to implement the visibility permitting program contained in WAC 173-400-117 varies depending on the situation. Ecology and EFSEC retain authority to implement WAC 173-400-117 as it relates to PSD permits. However, for facilities subject to major nonattainment new source review (NSR) under the applicability provisions of WAC 173-400-800, we are approving SRCAA's implementation of those parts of WAC 173-400-117 as they relate to major nonattainment NSR permits. Therefore, we are modifying the visibility protection Federal Implementation Plan contained in 40 CFR 52.2498 to reflect the approval of WAC 173-400-117 as it applies to implementation of the major nonattainment NSR program in SRCAA's jurisdiction.

Lastly, this SIP revision is not approved to apply on any Indian reservation land within Spokane County and is also not approved to apply in any other area where the EPA or an Indian tribe has demonstrated that a tribe has jurisdiction.

III. Incorporation by Reference

In this rule, the EPA is finalizing regulatory text that includes incorporation by reference. In accordance with requirements of 1 CFR 51.5, we are finalizing the incorporation by reference of certain provisions as described in section II.A. and removing provisions from the SIP as described in section II.C. of this preamble. The EPA has made, and will continue to make, materials incorporated by reference generally available through https://www.regulations.gov and at the EPA Region 10 Office (please contact the person identified in the FOR FURTHER INFORMATION CONTACT section of this preamble for more information). Therefore, these materials have been approved by the EPA for inclusion in the SIP, have been incorporated by reference by the EPA into that plan, are fully federally-enforceable under sections 110 and 113 of the CAA as of the effective date of the final rule of the EPA's approval, and will be incorporated by reference in the next update to the SIP compilation.¹

¹ 62 FR 27968 (May 22, 1997).

IV. Statutory and Executive Order Review

Under the CAA, the Administrator is required to approve a SIP submission that complies with the provisions of the CAA and applicable federal regulations. 42 U.S.C. 7410(k); 40 CFR 52.02(a). Thus, in reviewing SIP submissions, the EPA's role is to approve State choices, provided that they meet the criteria of the CAA. Accordingly, this action merely approves State law as meeting federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because it does not address technical standards; and

• Does not provide the EPA with the discretionary authority to address, as appropriate, disproportionate human health or environmental effects, using practicable and legally permissible methods, under Executive Order 12898 (59 FR 7629, February 16, 1994).

This SIP revision is not approved to apply on any Indian reservation land within Spokane County and is also not approved to apply in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 9, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 28, 2021.
Michelle L. Pirzadeh,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart WW—Washington

2. Amend § 52.2470 by revising Table 9 of paragraph (c) and Table 1 of paragraph (e) to read as follows:

§ 52.2470 Identification of plan.

* * * * *

(c) * * *

Table 9—Additional Regulations Approved for the Spokane Regional Clean Air Agency (SRCAA) Jurisdiction
[Applicable in Spokane county, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Spokane Regional Clean Air Agency Regulation I
Article I—Policy, Short Title, and Definitions
1.01 | Policy | 09/01/20 | 5/10/21, [Insert Federal Register citation] | Subsections (A) and (B) replace WAC 173-400-010.
1.02 | Name of Agency | 09/01/20 | 5/10/21, [Insert Federal Register citation]
1.03 | Short Title | 09/01/20 | 5/10/21, [Insert Federal Register citation]
1.04 | General Definitions | 09/01/20 | 5/10/21, [Insert Federal Register citation] | Except subsections (17), (41), (52), (60), (74), (101), (112), (119), and (122). Section 1.04 replaces WAC 173-400-030 except the WAC 173-400-030 definitions list below.
1.05 | Acronym Index | 09/01/20 | 5/10/21, [Insert Federal Register citation]
Article II—General Provisions
2.08 | Falsification of Statements or Documents, and Treatment of Documents | 09/01/20 | 5/10/21, [Insert Federal Register citation] | Subsections (E) and (F) only. Subsection (E) replaces WAC 173-400-105(6). Subsection (F) replaces WAC 173-400-105(8).
2.09 | Source Tests | 09/01/20 | 5/10/21, [Insert Federal Register citation] | Section 2.09 replaces WAC 173-400-105(4).
2.13 | Federal and State Regulation Reference Date | 09/01/20 | 5/10/21, [Insert Federal Register citation] | Subsection (A) replaces WAC 173-400-025.
2.14 | Washington Administrative Codes (WACS) | 09/01/20 | 5/10/21, [Insert Federal Register citation] | Subsection (A)(1) only, and only with respect to those revised Chapter 173-400 WAC provisions that are identified for incorporation by reference in the table below.
Article IV—Registration
4.03 | Registration Exemptions | 09/01/20 | 5/10/21, [Insert Federal Register citation] | Subsections (B) and (C) only.
4.04 | Stationary Sources and Source Categories Subject to Registration | 09/01/20 | 5/10/21, [Insert Federal Register citation] | Except subsections (A)(3)(u), (A)(3)(v), (A)(5)(b), (A)(5)(e)(9), or any other provision as it relates to the regulation of toxic air pollutants or odors.
4.05 | Closure of a Stationary Source or Emissions Unit(s) | 09/01/20 | 5/10/21, [Insert Federal Register citation]
Article V—New Source Review for Stationary Sources and Portable Sources
5.02 | New Source Review—Applicability and when Required | 09/01/20 | 5/10/21, [Insert Federal Register citation] | Except subsections (C)(5) and (I). Section 5.02 Replaces WAC 173-400-110. Subsection (F) replaces WAC 173-400-111(2).
5.03 | NOC and PSP Fees | 09/01/20 | 5/10/21, [Insert Federal Register citation]
5.04 | Information Required | 09/01/20 | 5/10/21, [Insert Federal Register citation] | Except subsection (A)(8). Collectively, sections 5.04, 5.06, 5.07, 5.10, 5.13, and 5.14 replace the permitting procedures in WAC 173-400-111.
5.05 | Public Involvement | 09/01/20 | 5/10/21, [Insert Federal Register citation] | Except subsection (C)(15). Section 5.05 replaces WAC 173-400-171.
5.06 | Application Completeness Determination | 09/01/20 | 5/10/21, [Insert Federal Register citation] | Collectively, sections 5.04, 5.06, 5.07, 5.10, 5.13, and 5.14 replace the permitting procedures in WAC 173-400-111.
5.07 | Processing NOC Applications for Stationary Sources | 09/01/20 | 5/10/21, [Insert Federal Register citation] | Except subsections (A)(1)(g) and (B). Collectively, sections 5.04, 5.06, 5.07, 5.10, 5.13, and 5.14 replace the permitting procedures in WAC 173-400-111, and subsection 5.07(A)(7) replaces WAC 173-400-110(2)(a).
5.08 | Portable Sources | 09/01/20 | 5/10/21, [Insert Federal Register citation] | Except subsection (A)(6). Section 5.08 replaces WAC 173-400-036.
5.09 | Operating Requirements for Order of Approval and Permission to Operate | 09/01/20 | 5/10/21, [Insert Federal Register citation] | Except subsection (C).
5.10 | Changes to an Order of Approval or Permission to Operate | 09/01/20 | 5/10/21, [Insert Federal Register citation] | Collectively, sections 5.04, 5.06, 5.07, 5.10, 5.13, and 5.14 replace the permitting procedures in WAC 173-400-111.
5.11 | Notice of Startup of a Stationary Source or a Portable Source | 09/01/20 | 5/10/21, [Insert Federal Register citation]
5.12 | Work Done Without an Approval | 09/01/20 | 5/10/21, [Insert Federal Register citation]
5.13 | Order of Approval Construction Time Limits | 09/01/20 | 5/10/21, [Insert Federal Register citation] | Collectively, sections 5.04, 5.06, 5.07, 5.10, 5.13, and 5.14 replace the permitting procedures in WAC 173-400-111.
5.14 | Appeals | 09/01/20 | 5/10/21, [Insert Federal Register citation] | Collectively, sections 5.04, 5.06, 5.07, 5.10, 5.13, and 5.14 replace the permitting procedures in WAC 173-400-111.
5.15 | Obligation to Comply | 09/01/20 | 5/10/21, [Insert Federal Register citation]
Article VI—Emissions Prohibited
6.04 | Emission of Air Contaminant: Detriment to Person or Property | 09/01/20 | 5/10/21, [Insert Federal Register citation] | Subsections (A), (B), (C), and (H) only and excepting provisions in RCW 70.94.640 (incorporated by reference) that relate to odor. Subsection (C) replaces WAC 173-400-040(6).
6.05 | Particulate Matter & Preventing Particulate Matter from Becoming Airborne | 09/01/20 | 5/10/21, [Insert Federal Register citation] | Except subsection (A). Section 6.05 supplements but does not replace WAC 173-400-040(4) and (9).
6.07 | Emission of Air Contaminant Concealment and Masking Restricted | 09/01/20 | 5/10/21, [Insert Federal Register citation] | Section 6.07 replaces WAC 173-400-040(8).
6.14 | Standards for Control of Particulate Matter on Paved Surfaces | 09/01/20 | 5/10/21, [Insert Federal Register citation] | Section 6.14 supplements but does not replace WAC 173-400-040(9).
6.15 | Standards for Control of Particulate Matter on Unpaved Roads | 09/01/20 | 5/10/21, [Insert Federal Register citation] | Section 6.15 supplements but does not replace WAC 173-400-040(9).
Article VIII—Solid Fuel Burning Device Standards
8.01 | Purpose | 9/02/14 | 9/28/15, 80 FR 58216
8.02 | Applicability | 9/02/14 | 9/28/15, 80 FR 58216
8.03 | Definitions | 9/02/14 | 9/28/15, 80 FR 58216
8.04 | Emission Performance Standards | 9/02/14 | 9/28/15, 80 FR 58216 | Except the incorporation by reference of WAC 173-433-130, 173-433-170, and 173-433-200.
8.05 | Opacity Standards | 9/02/14 | 9/28/15, 80 FR 58216
8.06 | Prohibited Fuel Types | 9/02/14 | 9/28/15, 80 FR 58216
8.07 | Curtailment | 9/02/14 | 9/28/15, 80 FR 58216
8.08 | Exemptions | 9/02/14 | 9/28/15, 80 FR 58216
8.09 | Procedure to Geographically Limit Solid Fuel Burning Devices | 9/02/14 | 9/28/15, 80 FR 58216
8.10 | Restrictions on Installation of Solid Fuel Burning Devices | 9/02/14 | 9/28/15, 80 FR 58216
Washington Administrative Code, Chapter 173-400—General Regulations for Air Pollution Sources: Adopted by Reference in SRCAA Regulation I, Subsection 2.14(A)(1)
173-400-020 | Applicability | 12/29/12 | 5/10/21, [Insert Federal Register citation]
173-400-030(24) | Definitions | 3/22/91 | 6/2/95, 60 FR 28726
173-400-030 | Definitions | 9/16/18 | 5/10/21, [Insert Federal Register citation] | Only the following definitions: Adverse Impact on Visibility; Capacity Factor; Class I Area; Dispersion Technique; Emission Threshold; Excess Stack Height; Existing Stationary Facility; Federal Class I Area; Federal Land Manager; Fossil Fuel-fired Steam Generator; General Process Unit; Greenhouse Gases; Industrial Furnace; Mandatory Class I Federal Area; Natural Conditions; Projected Width; Reasonably Attributable; Sulfuric Acid Plant; and Wood Waste.
173-400-040(1)(a) & (b) | General Standards for Maximum Emissions | 3/22/91 | 6/2/95, 60 FR 28726
173-400-040 | General Standards for Maximum Emissions | 9/16/18 | 5/10/21, [Insert Federal Register citation] | Except: 173-400-040(2); 173-400-040(3); 173-400-040(5); 173-400-040(6); 173-400-040(8).
173-400-050 | Emission Standards for Combustion and Incineration Units | 9/16/18 | 5/10/21, [Insert Federal Register citation] | Except: 173-400-050(2); 173-400-050(4); 173-400-050(5); 173-400-050(6).
173-400-060 | Emission Standards for General Process Units | 11/25/18 | 5/10/21, [Insert Federal Register citation]
173-400-070 | Emission Standards for Certain Source Categories | 3/22/91 | 6/2/95, 60 FR 28726 | Except (7).
173-400-081 | Startup and Shutdown | 9/20/93 | 6/2/95, 60 FR 28726
173-400-091 | Voluntary Limits on Emissions | 4/1/11 | 5/10/21, [Insert Federal Register citation] | 9/20/93 version continues to be approved under the authority of CAA Section 112(l) with respect to Section 112 hazardous air pollutants. See 60 FR 28726 (June 2, 1995).
173-400-105 | Records, Monitoring and Reporting | 11/25/18 | 5/10/21, [Insert Federal Register citation] | Except: 173-400-105(3); 173-400-105(4); 173-400-105(6); 173-400-105(8).
173-400-107 | Excess Emissions | 9/20/93 | 6/2/95, 60 FR 28726
173-400-112 | Requirements for New Sources in Nonattainment Areas | 12/29/12 | 5/10/21, [Insert Federal Register citation] | Except (8).
173-400-113 | Requirements for New Sources in Attainment or Unclassifiable Areas | 12/29/12 | 5/10/21, [Insert Federal Register citation] | Except: 173-400-113(3), second sentence.
173-400-117 | Special Protection Requirements for Federal Class I Areas | 12/29/12 | 5/10/21, [Insert Federal Register citation]
173-400-118 | Designation of Class I, II, and III Areas | 12/29/12 | 5/10/21, [Insert Federal Register citation]
173-400-131 | Issuance of Emission Reduction Credits | 4/1/11 | 5/10/21, [Insert Federal Register citation]
173-400-136 | Use of Emission Reduction Credits (ERC) | 12/29/12 | 5/10/21, [Insert Federal Register citation]
173-400-151 | Retrofit Requirements for Visibility Protection | 2/10/05 | 5/10/21, [Insert Federal Register citation]
173-400-161 | Compliance Schedules | 3/22/91 | 6/2/95, 60 FR 28726
173-400-175 | Public Information | 2/10/05 | 5/10/21, [Insert Federal Register citation]
173-400-190 | Requirements for Nonattainment Areas | 3/22/91 | 6/2/95, 60 FR 28726
173-400-200 | Creditable Stack Height and Dispersion Techniques | 2/10/05 | 5/10/21, [Insert Federal Register citation]
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 5/10/21, [Insert Federal Register citation] | Except: The part of 173-400-560(1)(f) that says, “173-460 WAC”.
173-400-800 | Major Stationary Source and Major Modification in a Nonattainment Area | 4/1/11 | 5/10/21, [Insert Federal Register citation] | EPA did not review WAC 173-400-800 through 860 for consistency with the August 24, 2016 PM2.5 implementation rule (81 FR 58010); nor does SRCAA have an obligation to submit rule revisions to address the 2016 PM2.5 implementation rule at this time.
173-400-810 | Major Stationary Source and Major Modification Definitions | 7/1/16 | 5/10/21, [Insert Federal Register citation]
173-400-820 | Determining if a New Stationary Source or Modification to a Stationary Source is Subject to these Requirements | 12/29/12 | 5/10/21, [Insert Federal Register citation]
173-400-830 | Permitting Requirements | 7/1/16 | 5/10/21, [Insert Federal Register citation]
173-400-840 | Emission Offset Requirements | 7/1/16 | 5/10/21, [Insert Federal Register citation]
173-400-850 | Actual Emissions Plantwide Applicability Limitation (PAL) | 7/1/16 | 5/10/21, [Insert Federal Register citation]
173-400-860 | Public Involvement Procedures | 4/1/11 | 5/10/21, [Insert Federal Register citation]

* * * * *

(e) * * *

Table 1—Approved But Not Incorporated By Reference Regulations
State/local citation | Title/subject | State/local effective date | EPA approval date | Explanations
Washington Department of Ecology Regulations
173-400-220 | Requirements for Board Members | 3/22/91 | 6/02/95, 60 FR 28726
173-400-230 | Regulatory Actions | 3/20/93 | 6/02/95, 60 FR 28726
173-400-240 | Criminal Penalties | 3/22/91 | 6/02/95, 60 FR 28726
173-400-250 | Appeals | 9/20/93 | 6/02/95, 60 FR 28726
173-400-260 | Conflict of Interest | 7/01/16 | 10/06/16, 81 FR 69385
173-433-200 | Regulatory Actions and Penalties | 10/18/90 | 1/15/93, 58 FR 4578
Energy Facility Site Evaluation Council Regulations
463-78-135 | Criminal Penalties | 11/11/04 | 5/30/17, 82 FR 24533
463-78-140 | Appeals Procedure | 3/26/06 | 5/30/17, 82 FR 24533 | Except (3) and (4).
463-78-170 | Conflict of Interest | 11/11/04 | 5/30/17, 82 FR 24533
463-78-230 | Regulatory Actions | 11/11/04 | 5/30/17, 82 FR 24533
Benton Clean Air Agency Regulations
2.01 | Powers and Duties of the Benton Clean Air Agency (BCAA) | 12/11/14 | 11/17/15, 80 FR 71695
2.02 | Requirements for Board of Directors Members | 12/11/14 | 11/17/15, 80 FR 71695 | Replaces WAC 173-400-220.
2.03 | Powers and Duties of the Board of Directors | 12/11/14 | 11/17/15, 80 FR 71695
2.04 | Powers and Duties of the Control Officer | 12/11/14 | 11/17/15, 80 FR 71695
2.05 | Severability | 12/11/14 | 11/17/15, 80 FR 71695
2.06 | Confidentiality of Records and Information | 12/11/14 | 11/17/15, 80 FR 71695
Northwest Clean Air Agency Regulations
103 | Duties and Powers | 8/21/05 | 6/15/20, 85 FR 36156
105 | Separability | 8/21/05 | 6/15/20, 85 FR 36156
110 | Investigation and Studies | 8/21/05 | 6/15/20, 85 FR 36156
111 | Interference or Obstruction | 8/21/05 | 6/15/20, 85 FR 36156
112 | False and Misleading Oral Statement: Unlawful Reproduction or Alteration of Documents | 8/21/05 | 6/15/20, 85 FR 36156
113 | Service of Notice | 12/22/07 | 6/15/20, 85 FR 36156
114 | Confidential Information | 12/22/07 | 6/15/20, 85 FR 36156
120 | Hearings | 12/22/07 | 6/15/20, 85 FR 36156
123 | Appeal of Orders | 4/14/13 | 6/15/20, 85 FR 36156
124 | Display of Orders, Certificates and Other Notices: Removal or Mutilation Prohibited | 8/21/05 | 6/15/20, 85 FR 36156
131 | Notice to Violators | 4/14/13 | 6/15/20, 85 FR 36156
132 | Criminal Penalty | 9/13/15 | 6/15/20, 85 FR 36156
133 | Civil Penalty | 9/13/15 | 6/15/20, 85 FR 36156
134 | Restraining Orders—Injunction | 8/21/05 | 6/15/20, 85 FR 36156
135 | Assurance of Discontinuance | 12/22/07 | 6/15/20, 85 FR 36156
303 | Work Done Without an Approval | 5/12/19 | 6/15/20, 85 FR 36156
Olympic Region Clean Air Agency Regulations
8.1.6 | Penalties | 5/22/10 | 10/03/13, 78 FR 61188
Puget Sound Clean Air Agency Regulations
3.01 | Duties and Powers of the Control Officer | 11/01/99 | 4/22/20, 85 FR 22357
3.05 | Investigations by the Control Officer | 3/17/94 | 4/22/20, 85 FR 22357
3.07 | Compliance Tests | 5/01/06 | 4/22/20, 85 FR 22357
3.09 | Violations—Notice | 9/12/91 | 4/22/20, 85 FR 22357
3.11 | Civil Penalties | 11/01/19 | 4/22/20, 85 FR 22357
3.13 | Criminal Penalties | 9/12/91 | 4/22/20, 85 FR 22357
3.15 | Additional Enforcement | 9/12/91 | 4/22/20, 85 FR 22357
3.17 | Appeal of Orders | 11/14/98 | 4/22/20, 85 FR 22357
3.19 | Confidential Information | 9/12/91 | 4/22/20, 85 FR 22357
3.21 | Separability | 9/12/91 | 4/22/20, 85 FR 22357
Southwest Clean Air Agency Regulations
400-220 | Requirements for Board Members | 3/18/01 | 4/10/17, 82 FR 17136
400-230 | Regulatory Actions and Civil Penalties | 10/9/16 | 4/10/17, 82 FR 17136
400-240 | Criminal Penalties | 3/18/01 | 4/10/17, 82 FR 17136
400-250 | Appeals | 11/9/03 | 4/10/17, 82 FR 17136
400-260 | Conflict of Interest | 3/18/01 | 4/10/17, 82 FR 17136
400-270 | Confidentiality of Records and Information | 11/9/03 | 4/10/17, 82 FR 17136
400-280 | Powers of Agency | 3/18/01 | 4/10/17, 82 FR 17136
Spokane Regional Clean Air Agency Regulations
2.01 | Powers and Duties of the Board | 09/01/20 | 5/10/21, [Insert Federal Register citation]
2.02 | Control Office's Duties and Powers | 09/01/20 | 5/10/21, [Insert Federal Register citation] | Section 2.02(E) replaces WAC 173-400-105(3).
2.03 | Confidential or Proprietary Information | 09/01/20 | 5/10/21, [Insert Federal Register citation]
2.04 | Violations | 09/01/20 | 5/10/21, [Insert Federal Register citation] | Replaces WAC 173-400-230(1)&(6).
2.05 | Orders and Hearings | 09/01/20 | 5/10/21, [Insert Federal Register citation]
2.06 | Appeal of Board Orders | 09/01/20 | 5/10/21, [Insert Federal Register citation] | Replaces WAC 173-400-250.
2.10 | Severability | 09/01/20 | 5/10/21, [Insert Federal Register citation]
2.11 | Penalties, Civil Penalties, and Additional Means for Enforcement | 09/01/20 | 5/10/21, [Insert Federal Register citation] | Replaces WAC 173-400-230(2)&(3).
2.12 | Restraining Orders—Injunctions | 09/01/20 | 5/10/21, [Insert Federal Register citation] | Replaces WAC 173-400-230(4).
8.11 | Regulatory Actions and Penalties | 9/02/14 | 9/28/15, 80 FR 58216

* * * * *

3. Amend § 52.2498 by revising paragraph (a)(1) to read as follows:

§ 52.2498 Visibility protection.

(a) * * *

(1) Sources subject to the jurisdiction of local air authorities (except Benton Clean Air Agency, Northwest Clean Air Agency, Puget Sound Clean Air Agency, Southwest Clean Air Agency, and Spokane Regional Clean Air Agency);

* * * * *

[FR Doc. 2021-09368 Filed 5-7-21; 8:45 am]

BILLING CODE 6560-50-P